DEPARTMENT OF COMMERCE

National Oceanic and Atmospheric Administration

RIN 0648-XF039

South Atlantic Fishery Management Council; Public Meetings

AGENCY: National Marine Fisheries Service (NMFS), National Oceanic and Atmospheric Administration (NOAA), Commerce.

ACTION: Notice of public meetings of the South Atlantic Fishery Management Council.

SUMMARY: The South Atlantic Fishery Management Council (Council) will hold meetings of the: Advisory Panel Selection Committee (Partially Closed Session); Law Enforcement Committee; Scientific and Statistical Committee (SSC) Selection Committee; Protected Resources Committee; Habitat Protection and Ecosystem-Based Management Committee; Southeast Data, Assessment and Review (SEDAR) Committee (Partially Closed Session); Spiny Lobster Committee; Joint Dolphin Wahoo/Snapper Grouper and Mackerel Cobia Committees; Information and Education Committee; Executive Finance Committee; Snapper Grouper Committee; Personnel Committee (Closed Session); Highly Migratory Species Committee; Mackerel Cobia Committee; Citizen Science Committee; Data Collection Committee; and a meeting of the Full Council.

The Council will take action as necessary. The Council will also hold a formal public comment session. The Atlantic States Marine Fisheries Commission (ASMFC) will also conduct a public hearing in conjunction with the Council meeting.

DATES: The Council meeting will be held from 8:30 a.m. on Monday, December 5, 2016 until 1 p.m. on Friday, December 9, 2016.

ADDRESSES: Meeting address: The meeting will be held at the DoubleTree by Hilton Atlantic Beach Oceanfront, 2717 West Fort Macon Road, Atlantic Beach, NC 28512; phone: (800) 222-8733 or (252) 240-1155; fax: (252) 222-4065.

Council address: South Atlantic Fishery Management Council, 4055 Faber Place Drive, Suite 201, N. Charleston, SC 29405.

FOR FURTHER INFORMATION CONTACT: Kim Iverson, Public Information Officer, SAFMC; phone (843) 571-4366 or toll free (866) SAFMC-10; fax (843) 769-4520; email: kim.iverson@safmc.net. Meeting information is available from the Council's Web site at: http://safmc.net/meetings/council-meetings/.

SUPPLEMENTARY INFORMATION: Public comment: Written comments may be directed to Gregg Waugh, Executive Director, South Atlantic Fishery Management Council (see ADDRESSES) or electronically via the Council's Web site at: https://goo.gl/forms/QAZYglsYhWIkQZNV2. The public comment form is open for use when the briefing book is posted to the Web site on the Friday, two weeks prior to the Council meeting. Comments received by close of business the Monday before the meeting (November 28, 2016) will be compiled, posted to the Web site as part of the meeting materials, and included in the administrative record. For written comments received after the Monday before the meeting (after 11/28), individuals sending the comment must use the Council's online form available from the Web site. Comments will automatically be posted to the Web site and available for Council consideration. Comments received prior to noon on Thursday, December 8, 2016 will be a part of the meeting administrative record.

The items of discussion in the individual meeting agendas are as follows:

Advisory Panel Selection Committee (Partially Closed Session), Monday, December 5, 2016, 8:30 a.m. Until 9:30 a.m.

1. The Committee will review applications for the SEDAR Pool Advisory Panel and provide recommendations (Closed Session).

2. The Committee will review options for the structure of an advisory panel for the Council's System Management Plan addressing protected areas and provide guidance and timing for the advisory panel as necessary.

Law Enforcement Committee, Monday, December 5, 2016, 9:30 a.m. Until 10:30 a.m.

1. The Committee will receive a report on the level of commercial logbook reporting at the time of permit renewal, discuss compliance with logbook reporting requirements, and provide recommendations as appropriate.

2. The Committee will also follow up on items from the earlier joint meeting of the Law Enforcement Committee and Advisory panel provide recommendations as appropriate.

SSC Selection Committee, Monday, December 5, 2016, 10:30 a.m. Until 12 p.m.

The Committee will review the SSC Conflict of Interest Policy, the SSC Public Comment Policy, and the SSC Update on complex analysis review process. The Committee will provide guidance as needed.

Protected Resources Committee, Monday, December 5, 2016, 1:30 p.m. Until 2:30 p.m.

The Committee will receive an update from NOAA Fisheries' Protected Resources Office, review the Biological Opinion for Snapper Grouper, appoint a Council member to the Large Whale Take Reduction Team, and receive an update from the U.S. Fish & Wildlife Service.

Habitat Protection and Ecosystem-Based Management Committee, Monday, December 5, 2016, 2:30 p.m. Until 5 p.m.

1. The Committee will receive a report from the Habitat Protection and Ecosystem-Based Management Advisory Panel and provide recommendations as appropriate.

2. The Committee will review and approve the Council's Essential Fish Habitat Policy Statements for the Fishery Ecosystem Plan II.

3. The Committee will receive an update on the Habitat and Ecosystem Tools and Model Development, Council actions pertaining to Habitat, and a report from the Lenfest Ecosystem Task Force and proved recommendations as appropriate.

SEDAR Committee, Tuesday, December 6, 2016, 8:30 a.m. Until 10:30 a.m. (Partially Closed)

1. The Committee will discuss and provide recommendations for appointments for the following stock assessments: SEDAR 50 Blueline Tilefish; SEDAR 48 Black Grouper, SEDAR 56 Black Sea Bass, and the SEDAR Stock Identification and Meristics Workshop. (Closed Session)

2. The Committee will receive updates on SEDAR projects, review the SEDAR Steering Committee Report, and assessment priorities, including SSC prioritization recommendations and a long-term assessment plan. The Committee will provide recommendations as appropriate.

Spiny Lobster Committee, Tuesday, December 6, 2016, 10:30 a.m. Until 11:30 a.m.

1. The Committee will receive a presentation on Spiny Lobster regulations in Florida, review recommendations from the SSC for establishing Overfishing Levels and Acceptable Biological Catch for Spiny Lobster, and provide recommendations to staff.

2. The Committee will also receive an overview of a Discussion Document on action to restrict recreational traps in the South Atlantic Exclusive Economic Zone and provide direction to staff.

Joint Dolphin Wahoo/Snapper Grouper/Mackerel Cobia Committees, Tuesday, December 6, 2016, 1 p.m. Until 4 p.m.

1. The Committees will receive updates from NOAA Fisheries on commercial and recreational catches of Dolphin and Wahoo versus annual catch limits (ACLs), status of amendments, and the 2015 commercial landings for Yellowtail Snapper.

2. The Committee will review Dolphin Wahoo Amendment 10/Snapper Grouper Amendment 44 addressing allocations of Dolphin and Yellowtail Snapper, provide direction to staff, and recommend approval of the joint amendment for public hearings.

3. The Committees will receive an overview of draft options for a Limited Entry program for federal For-Hire Permits in the Snapper Grouper, Coastal Migratory Pelagic, and Dolphin Wahoo fisheries in the South Atlantic/Atlantic, review options, modify the document if necessary, and provide guidance as appropriate.

Information and Education Committee, Tuesday, December 6, 2016, 4 p.m. Until 5 p.m.

The Committee will receive a report from the Information and Education Advisory Panel meeting and provide guidance to staff.

Executive/Finance Committee, Tuesday, December 6, 2016, 5 p.m. Until 6 p.m. and Thursday, December 8, 2016, From 4:30 p.m. Until 5:30 p.m.

1. The Committee will receive a presentation on the Final Rule for National Standard 1 Guidelines, discuss and provide guidance to staff.

2. The Committee will receive an overview of Electronic Reporting Project Proposals, discuss and take action as necessary.

3. The Committee will receive an update on the status of expenditures for Calendar Year (CY) 2016; review the Draft CY 2017 Budget; review, modify, and approve the Council Follow-up and work priorities; and provide recommendations as appropriate.

3. The Committee will discuss standards and procedures for participating in Council webinar meetings and take action as appropriate.

Snapper Grouper Committee, Wednesday, December 7, 2016, 8 a.m. Until 4:30 p.m. and Thursday, December 8, 2016, 9 a.m. Until 10 a.m.

1. The Committee will receive updates from NOAA Fisheries on the status of commercial and recreational catches versus quotas for species under Annual Catch Limits (ACLs) and the status of amendments currently under Secretarial review.

2. The Committee will receive reports from the Snapper Grouper Advisory Panel meeting and the SSC meeting, discuss and provide recommendations as appropriate.

3. The Committee will receive presentations on the efficacy of descending devices for deepwater grouper and commercial logbook discard data for red grouper, discuss and take action as appropriate.

4. The Committee will review Snapper Grouper Amendment 41 addressing management measures for mutton snapper, modify the document as appropriate, and provide recommendations to approve/disapprove the amendment for formal Secretarial Review.

5. The Committee will receive the Annual Review of the Vision Blueprint for the Snapper Grouper Fishery addressing long-term management needs and provide recommendations as appropriate. The Committee will also review options for the Recreational Visioning Blueprint Amendment (Vision Blueprint Regulatory Amendment 26) and the Commercial Visioning Blueprint Amendment (Vision Blueprint Regulatory Amendment 27), modify the documents as appropriate, and approve for public scoping.

6. The Committee will receive a presentation of Red Snapper landings by County in Florida, receive an overview of management options for Red Snapper to be addressed in Snapper Grouper Amendment 43, modify the document as necessary, and provide recommendations to approve/disapprove the options paper for public scoping.

7. The Committee will consider an emergency rule for the 2017 season of Golden Tilefish and provide guidance to staff for amendment development.

Formal Public Comment, Wednesday, December 7, 2016, 4:30 p.m.—Public comment will be accepted on items on the Council agenda. Comment will be accepted first on items before the Council for Secretarial approval: (1) Snapper Grouper Amendment 41 (Mutton Snapper); (2) Coastal Migratory Pelagic Amendment 29 (Gulf of Mexico King Mackerel Allocations); (3) Coastal Migratory Pelagic Amendment 30 (Atlantic Cobia Fishing Year); and (4) Atlantic For-Hire Electronic Reporting Amendment. The Council Chair, based on the number of individuals wishing to comment, will determine the amount of time provided to each commenter.

Personnel Committee, Thursday, December 8, 2016, 8 a.m. Until 9 a.m. (Closed Session)

The Committee will conduct the Executive Director's Performance Review.

Highly Migratory Species (HMS) Committee, Thursday, December 8, 2016, 10 a.m. Until 11 a.m.

The Committee will receive a presentation from NOAA Fisheries HMS on draft Amendment 5b to the 2006 Consolidated Atlantic HMS Fishery Management Plan addressing management measures for Dusky Shark and provide guidance to staff.

Mackerel Cobia Committee, Thursday, December 8, 2016, 11 a.m. Until 12 p.m.

1. The Committees will receive status updates from NOAA Fisheries on commercial and recreational catches versus annual catch limits (ACLs) for species under ACLs and amendments currently under Secretarial review.

2. The Committee will receive an overview of Amendment 29 to the Coastal Migratory Pelagic (CMP) Fishery Management Plan for the Gulf of Mexico and South Atlantic Region addressing allocations of Gulf Group King Mackerel, modify as necessary, and provide recommendations to approve/disapprove the amendment for formal Secretarial Review.

3. The Committee will receive an overview of CMP Amendment 30 addressing modifications to the Fishing Year for Atlantic Cobia, review public hearing comments, modify the document as necessary, and recommend approval/disapproval of the amendment for formal Secretarial Review.

4. The Committee will review the ASMFC's Public Information Document for the Interstate Fishery Management Plan for Cobia and provide comments and guidance as appropriate.

Citizen Science Committee, Thursday, December 8, 2016, 1:30 p.m. Until 2:30 p.m.

The Committee will receive a program development update on the Council's Citizen Science Program, discuss and take action as necessary.

Data Collection Committee, Thursday, December 8, 2016, 2:30 p.m. Until 4:30 p.m.

1. The Committee will receive an update on the status of the Bycatch Reporting Amendment and the final Standardized Bycatch Reporting Methodology (SBRM) rule from NOAA Fisheries, discuss and provide direction to staff.

2. The Committee will receive an update on the status of voluntary commercial logbook electronic reporting, discuss and take action as necessary.

3. The Committee will receive an update on the status of the Pilot For-Hire Electronic Reporting Project being conducted jointly between the Council and the Atlantic Coastal Cooperative Statistics Program, review and take action as necessary.

4. The Committee will also receive a report on the status of the Headboat Electronic Reporting Program and associated outreach, an overview of the For-Hire Reporting Amendment, review the amendment and provide recommendations for approval/disapproval of the amendment for Secretarial Review.

Public Hearing—Atlantic States Marine Fisheries Commission (ASMFC)—Public Information Document for the Interstate Fishery Management Plan (FMP) for Cobia, Thursday, December 8, 2016, 6 p.m.—The ASMFC will hold a public hearing in conjunction with the Council meeting to solicit comment on the Public Information Document addressing state management of Cobia. Stakeholders are asked to provide information about changes observed in the fishery and provide input on potential management measures as well as any additional issues that should be included in the draft FMP. The Public Information Document includes draft goals and objectives of the plan; commercial and recreational measures; coast-wide, regional, or state-by-state measures; and other issues.

Council Session: Friday, December 9, 2016, 8:30 a.m. until 1 p.m. (Partially Closed)

The Full Council will convene on Friday morning with a Call to Order, announcements and introductions, and approve the September 2016 meeting minutes. The Council will present the Law Enforcement Officer of the Year award and make other presentations as appropriate.

The Council will receive a Legal Briefing on Litigation from NOAA General Counsel (if needed) during Closed Session.

The Council will receive a report from the Snapper Grouper Committee and approve/disapprove Snapper Grouper Amendment 41 (Mutton Snapper) for Secretarial review and approve Snapper Grouper Amendment 43 (red snapper), the Recreational Visioning Amendment, and the Commercial Visioning Amendment for public scoping. The Council will consider other Committee recommendations and take action as appropriate.

The Council will receive a report from the Mackerel Cobia Committee, approve/disapprove Coastal Migratory Pelagic Amendment 29 (Gulf of Mexico King Mackerel Allocations) and Coastal Migratory Pelagic Amendment 30 (Atlantic Cobia Fishing Year) for Secretarial review, consider other Committee recommendations, and take action as appropriate.

The Council will receive a report from the Data Collection Committee and approve/disapprove the Atlantic For-Hire Amendment (Electronic Reporting) for Secretarial Review, consider other committee recommendations, and take action as appropriate.

The Council will receive a report from the Joint Dolphin Wahoo/Snapper Grouper/Mackerel Cobia Committee, approve/disapprove Joint Dolphin Wahoo Amendment 10/Snapper Grouper Amendment 44 (Allocations for Dolphin and Yellowtail Snapper) for public hearings, consider other recommendations, and take action as appropriate.

The Council will continue to receive committee reports from Information & Education, Protected Resources, Advisory Panel Selection, SSC Selection, SEDAR, Habitat and Ecosystem-Based Management, Law Enforcement, Spiny Lobster, HMS, Citizen Science, and Executive Finance Committees, review recommendations and take action as appropriate.

The Council will receive status reports from NOAA Fisheries Southeast Office and the Southeast Fisheries Science Center; review and develop recommendations on Experimental Fishing Permits as necessary; receive agency and liaison reports; and discuss other business and upcoming meetings.

Documents regarding these issues are available from the Council office (see ADDRESSES).

Although non-emergency issues not contained in this agenda may come before these groups for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the Council office (see ADDRESSES) 3 days prior to the meeting.

Note: The times and sequence specified in this agenda are subject to change.

Authority: 16 U.S.C. 1801 et seq.

Dated: November 9, 2016.
Tracey L. Thompson,
Acting Deputy Director, Office of Sustainable Fisheries, National Marine Fisheries Service.

[FR Doc. 2016-27434 Filed 11-14-16; 8:45 am]

BILLING CODE 3510-22-P